DEPARTMENT OF LABOR

Employment and Training Administration

[TA-W-52,819]

BSN-Jobst, Inc., Rutherford College, NC; Notice of Termination of Investigation

Pursuant to section 221 of the Trade Act of 1974, as amended, an investigation was initiated on September 11, 2003, in response to a worker petition filed by a company official on behalf of workers at BSN-Jobst, Inc., Rutherford College, North Carolina.

The petitioner has requested that the petition be withdrawn. Consequently, the investigation has been terminated.

Signed at Washington, DC, this 17th day of September, 2003.
Richard Church,
Certifying Officer, Division of Trade Adjustment Assistance.

[FR Doc. 03-25718 Filed 10-9-03; 8:45 am]

BILLING CODE 4510-30-P